DEPARTMENT OF HEALTH AND HUMAN SERVICES

Administration on Aging

Notice of Meeting

AGENCY: 2005 White House Conference on Aging, Administration on Aging.

ACTION: Notice of meeting of the 2005 White House Conference on Aging Policy Committee.

SUMMARY: Pursuant to Section 10(a) of the Federal Advisory Committee Act as amended (5 U.S.C. Appendix 2), notice is hereby given of the second Policy Committee meeting concerning planning for the 2005 White House Conference on Aging. The meeting will be open to the public, with attendance limited to space available. Individuals who plan to attend and need special assistance, such as sign language interpretation or other reasonable accommodations, should inform the contact person listed below in advance of the meeting.

DATES: The meeting will be held Friday, October 1, 2004, from 8:30 a.m. to 5 p.m.

ADDRESSES: The meeting will be held at the Hall of the States, 444 North Capitol Street, Room 333, Washington, DC 20001.

FOR FURTHER INFORMATION CONTACT: Nora Andrews, (202) 357-0150, or e-mail nora.Andrews@aoa.gov.

SUPPLEMENTARY INFORMATION: Pursuant to the Older Americans Act Amendments of 2000 (Public Law 106-501, November 2000), the Policy Committee will meet to further organize efforts towards pursuing its duties in support of the 2005 White House Conference on Aging, and to discuss the potential conference agenda topics.

Speakers include Estelle James, Ph.D., formerly of the World Bank and Urban Institute Fellow; Paul Hodge, Director of the Generations Policy Institute and Research Fellow at the Houser Center, JFK School of Government, Harvard University; and Diane Braunstein, Program Director, Health Center for Best Practices, National Governors Association.

Dated: September 8, 2004.
Josefina G. Carbonell,
Assistant Secretary for Aging.

[FR Doc. 04-20964 Filed 9-16-04; 8:45 am]

BILLING CODE 4154-01-P